DEPARTMENT OF THE INTERIOR

Fish and Wildlife Service

[FWS-HQ-IA-2012-N297; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) the granted permit would not operate to the disadvantage of the endangered species, and (3) the granted permit would be consistent with the purposes and policy set forth in section 2 of the ESA.

Endangered Species
Permit No. | Applicant | Receipt of application Federal Register notice | Permit issuance date
60610A | University of California, UC Davis Stable Isotope Facility | 77 FR 17494; March 26, 2012 | September 14, 2012.
63801A | Global Viral Forecasting Initiative | 77 FR 24510; April 24, 2012 | September 12, 2012.
65708A | Duke Lemur Center | 77 FR 30547; May 23, 2012 | September 12, 2012.
66809A | University of Cincinnati | 77 FR 34059; June 8, 2012 | September 13, 2012.
77911A | Coleman Floyd | 77 FR 41198; July 12, 2012 | August 16, 2012.
77994A | Gary Benmark | 77 FR 41198; July 12, 2012 | August 18, 2012.
045532 | NOAA/National Marine Fisheries Service | 77 FR 41198; July 12, 2012 | September 14, 2012.
73636A | Bruce Soik | 77 FR 43108; July 23, 2012 | September 14, 2012.
80316A | Mitchell Strickling | 77 FR 44264; July 27, 2012 | September 24, 2012.
77276A | Wildlife Artistry Taxidermy | 77 FR 46514; August 3, 2012 | October 12, 2012.
81313A | David Kjelstrup | 77 FR 49453; August 16, 2012 | August 22, 2012.
81986A | Billy Elebert | 77 FR 49453; August 16, 2012 | August 22, 2012.
80923A | Richard Haskins | 77 FR 49453; August 16, 2012 | August 22, 2012.
80535A | John Fry | 77 FR 49453; August 16, 2012 | August 22, 2012.
81167A | Michelle Crawford | 77 FR 49453; August 16, 2012 | September 21, 2012.
80043A | Steven Sullivan | 77 FR 49453; August 16, 2012 | September 21, 2012.
81166A | Silas Blanton | 77 FR 49453; August 16, 2012 | September 24, 2012.
80043A | Steve Sullivan | 77 FR 49453; August 16, 2012 | September 21, 2012.
81167A | Michelle Crawford | 77 FR 49453; August 16, 2012 | September 21, 2012.
80165A | Don Dahlgren | 77 FR 49455; August 16, 2012 | September 24, 2012.
81990A | John Hattner | 77 FR 51819; August 27, 2012 | October 3, 2012.
75218A | Smithsonian National Zoological Park | 77 FR 51819; August 27, 2012 | November 29, 2012.
82880A | Big Game Studio | 77 FR 54604; September 5, 2012 | October 17, 2012.
83520A | Donald Priest | 77 FR 58405; September 20, 2012 | October 25, 2012.
84493A | Kevin Dunworth | 77 FR 58405; September 20, 2012 | November 16, 2012.
82650A | Timothy Chestnut | 77 FR 58405; September 20, 2012 | November 16, 2012.
82530A | Robert Eslick | 77 FR 58405; September 20, 2012 | November 16, 2012.
72061A | Alexandria Rosati | 77 FR 49453; August 16, 2012 | November 19, 2012.
77898A | Kimberly Stewart | 77 FR 59961; October 1, 2012 | November 20, 2012.
83025A | Edward Hopkins | 77 FR 59961; October 1, 2012 | November 5, 2012.
85002A | Randal Easley | 77 FR 59961; October 1, 2012 | November 5, 2012.
85523A | Allan Spina | 77 FR 59961; October 1, 2012 | November 5, 2012.
87103A | David Cote | 77 FR 64121; October 18, 2012 | December 5, 2012.
89047A | Martin Turchin | 77 FR 66476; November 5, 2012 | December 7, 2012.
88274A | Daniel Ceto | 77 FR 66476; November 5, 2012 | December 7, 2012.

Marine Mammals
Permit No. | Applicant | Receipt of application Federal Register notice | Permit issuance date
130062 | Darlene Ketten, Ph.D., Woods Hole Oceanographic Institute | 77 FR 44264; July 27, 2012 | November 13, 2012.
100875 | John Wise, Ph.D., University of Southern Maine | 77 FR 43108; July 23, 2012 | December 7, 2012.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2012-30212 Filed 12-13-12; 8:45 am]

BILLING CODE 4310-55-P